Proclamation 8996 of June 14, 2013

Father's Day, 2013

By the President of the United States of America

A Proclamation

Each day, men from every walk of life pour themselves into the hard, proud, rewarding work of raising our sons and daughters. And each June, families all across our country pause to say thanks and let fathers know how much they mean to us—not just as partners or providers, but also as loving parents who never stop striving to give their kids the best life has to offer.

We see that sense of commitment throughout our communities. We see it in our schools, where dads attend assemblies and parent-teacher conferences, and help out with homework. We see it on our playing fields and in our congregations, where fathers instill the life lessons that set our kids on a path to success. We see it in parents working a second job or taking on an extra shift, putting a little away so their children can go to college. And we see it in mentors and tutors and foster dads, taking on the duties of fatherhood for young people in need.

That work is rarely easy. But we know it adds up, building character in our children and instilling in them qualities to last a lifetime: love and hope, courage and discipline, trust in themselves and others. As fathers, teaching those values is our first task. Yet too often, boys and girls are growing up without the support of their fathers. We know our country can do better. So as men in every corner of America keep stepping up and being present in the lives of our children, my Administration will keep striving to support them.

Today, we rededicate ourselves to that important work. And as sons and daughters, let us show our lasting gratitude to the men who have shaped us, who lift our sights, and who enrich our lives with a father's love, day after day.

NOW, THEREFORE, I, BARACK OBAMA, President of the United States of America, in accordance with a joint resolution of the Congress approved April 24, 1972, as amended (36 U.S.C. 109), do hereby proclaim June 16, 2013, as Father's Day. I direct the appropriate officials of the Government to display the flag of the United States on all Government buildings on this day, and I call upon all citizens to observe this day with appropriate programs, ceremonies, and activities.

IN WITNESS WHEREOF, I have hereunto set my hand this fourteenth day of June, in the year of our Lord two thousand thirteen, and of the Independence of the United States of America the two hundred and thirty-seventh.

[FR Doc. 2013-14970

Filed 6-19-13; 11:15 am]

Billing code 3295-F3